DEPARTMENT OF HOMELAND SECURITY

[DHS-2005-0054]

Office of State and Local Government Coordination and Preparedness; SAFER Grant Program

AGENCY: Office of State and Local Government Coordination and Preparedness, DHS.

ACTION: Notice and request for comment.

SUMMARY: Pursuant to the Paperwork Reduction Act, the Department of Homeland Security (DHS) solicited comments on the proposed collection of information in connection with the Staffing for Adequate Fire and Emergency (SAFER) Grant Application. This notice extends the comment period by 30 days.

DATES: Comments are encouraged and will be accepted until December 22, 2005. This process is conducted in accordance with 5 CFR 1320.10

ADDRESSES: You may submit comments, identified by docket number DHS-2005-0054, by one of the following methods:

• Federal eRulemaking Portal: http://www.regulations.gov. Follow the instructions for submitting comments.

• E-mail: tom.harrington@dhs.gov. Include docket number DHS-2005-0054 in the subject line of the message.

• Mail: Office of State and Local Government Coordination and Preparedness, Grants Program Office, 810 7th Street, NW., Washington, DC 20531.

FOR FURTHER INFORMATION CONTACT: Tom Harrington 202-786-9791 (this is not a toll free number).

SUPPLEMENTARY INFORMATION: DHS, as part of its continuing effort to reduce paperwork and respondents' burden, invites the general public to take this opportunity to comment on this proposed information collection as required by the Paperwork Reduction Act of 1995, Pub. L. 104-13 (44 U.S.C. 3506(c)(2)(A)).

Currently, the Office of State and Local Government Coordination and Preparedness (OSLGCP) is soliciting comments concerning a proposed new collection, the SAFER Grant Application. The information collection was previously published in the Federal Register on August 16, 2005 at 70 FR 48170 allowing for OMB review and a 60-day public comment period. No comments were received. The purpose of this notice is to allow an additional 30-days for public comments.

Description: The SAFER Act 15 U.S.C.229(a) provides for $65 million in grant funding to be distributed directly to individual fire departments on a competitive basis. The law allows DHS to fund fire department staff and benefits on a decreasing cumulative value over the span of five years. The information collected through the program's application is the minimum necessary to evaluate grant applications authorized under the SAFER Grant Program or is necessary for DHS to comply with mandates delineated in the law.

Public Participation: Interested persons are invited to participate in this Information Collection Request by submitting written data, views, or arguments on all aspects of the proposed Information Collection Request. OSLGCP also invites comments that relate to the economic, environmental, or federalism affects that might result from this Information Collection Request. Comments that will provide the most assistance to the OSLGCP in developing these procedures will reference a specific portion of the Information Collection Request, explain the reason for any recommended change, and include data, information, or authority that support such recommended change.

Instructions: All submissions received must include the agency name and docket number DHS-2005-0054 for this Information Collection Request. All comments received will be posted without change to http://www.regulations.gov, including any personal information provided.

Docket: For access to the docket to read background documents or comments received, go to http://www.regulations.gov.

Analysis:

Agency: Department of Homeland Security, Office of State and Local Government Coordination and Preparedness.

Title: Staffing for Adequate Fire and Emergency Response (SAFER) Grant Application.

OMB Control Number: NEW.

Frequency: Quarterly.

Affected Public: State, local or tribal government.

Estimated Number of Respondents: 7,000.

Estimated Time per Response: 17 hours per response.

Total Burden Hours: 149,000.

Total Cost Burden: None.

Dated: November 14, 2005.
Scott Charbo,
Chief Information Officer.

[FR Doc. 05-23047 Filed 11-21-05; 8:45 am]

BILLING CODE 4410-10-P